DEPARTMENT OF ENERGY

Federal Energy Regulatory Commission

[Docket No. CP98-159-005]

El Paso Natural Gas Company; Notice of Proposed Changes in FERC Gas Tariff

May 4, 2000.

Take notice that on May 1, 2000, El Paso Natural Gas Company (El Paso) tendered for filing to become part of its FERC Gas Tariff, Second Revised Volume No. 1-A, the following tariff sheets, with an effective date of May 1, 2000.

Third Revised Sheet No. 117

Fifth Revised Sheet No. 118

El Paso states that the tariff sheets are being filed to implement the settlement approved by the Commission at Docket No. CP98-159-003, et al. The tendered tariff sheets are proposed to become effective May 1, 2000.

Any person desiring to protest this filing should file a protest with the Federal Energy Regulatory Commission, 888 First Street, NE., Washington, DC 20426, in accordance with Section 385.211 of the Commission Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-11625 Filed 5-9-00; 8:45 am]

BILLING CODE 6717-01-M